OFFICE OF MANAGEMENT AND BUDGET

Rescissions Proposals Pursuant to the Congressional Budget and Impoundment Control Act of 1974

AGENCY: Executive Office of the President, Office of Management and Budget.

ACTION: Notice of rescissions proposed pursuant to the Congressional Budget and Impoundment Control Act of 1974.

SUMMARY: Pursuant to section 1014(d) of the Congressional Budget and Impoundment Control Act of 1974, enclosed for publication in the Federal Register is a special message from the President reflecting the proposals for rescission under section 1012 of that Act that were transmitted to the Congress for consideration on May 8, 2018. In total, these proposals would rescind $15.4 billion in budget authority. These proposed rescissions affect programs of the Departments of Agriculture, Commerce, Energy, Health and Human Services, Housing and Urban Development, Justice, Labor, State, Transportation, and the Treasury, as well as the Corporation for National and Community Service, Environmental Protection Agency, Railroad Retirement Board, Millennium Challenge Corporation, and the U.S. Agency for International Development. If enacted, these rescissions would decrease Federal outlays in the affected accounts by an estimated $3.0 billion; this would have a commensurate effect on the Federal budget deficit and the national economy, and would result in less borrowing from the Federal Treasury.

DATES: Release Date: May 8, 2018.

ADDRESSES: The rescissions proposal package is available on-line on the OMB home page at: https://www.whitehouse.gov/omb/budget-rescissions-deferrals/.

FOR FURTHER INFORMATION CONTACT: Jessica Andreasen, 6001 New Executive Office Building, Washington, DC 20503, email address: jandreasen@omb.eop.gov, telephone number: (202) 395-3645. Because of delays in the receipt of regular mail related to security screening, respondents are encouraged to use electronic communications.

John Mulvaney,
Director.

TO THE CONGRESS OF THE UNITED STATES:

In accordance with section 1012 of the Congressional Budget and Impoundment Control Act of 1974 (2 U.S.C. 683), I herewith report 38 rescissions of budget authority, totaling $15.4 billion.

The proposed rescissions affect programs of the Departments of Agriculture, Commerce, Energy, Health and Human Services, Housing and Urban Development, Justice, Labor, State, Transportation, and the Treasury, as well as of the Corporation for National and Community Service, Environmental Protection Agency, Railroad Retirement Board, the Millennium Challenge Corporation, and the U.S. Agency for International Development.

The details of these rescissions are set forth in the enclosed letter from the Director of the Office of Management and Budget.

Donald J. Trump

The White House,

May 8, 2018.

The President

The White House

Dear Mr. President:

Submitted for your consideration are proposals for rescission under section 1012 of the Congressional Budget and Impoundment Control Act of 1974 (ICA) (2 U.S.C. 683) for the Departments of Agriculture, Commerce, Energy, Health and Human Services, Housing and Urban Development, Justice, Labor, State, Transportation, and the Treasury, as well as for the Corporation for National and Community Service, Environmental Protection Agency, Railroad Retirement Board, Millennium Challenge Corporation, and the U.S. Agency for International Development.

As demonstrated in your first two Budgets, the Administration is committed to ensuring the Federal Government spends precious taxpayer dollars in the most efficient, effective manner possible. Given the long-term fiscal constraints facing our Nation, we must use all available means to put our fiscal house back in order.

To that end, the Administration is utilizing the authorities granted to the President under the ICA to propose rescissions to enacted appropriations. The proposals included in this package would make it the largest single ICA rescissions package ever proposed.

The attached rescission proposals include unobligated balances from prior-year appropriations and reductions to budget authority for mandatory programs. These proposals include rescissions of funding that is no longer needed for the purpose for which it was appropriated by the Congress; in many cases, these funds have been left unspent by agencies for years. These proposals also include rescissions of low priority and unnecessary Federal spending. We look forward to working with the Congress to identify additional opportunities to reduce wasteful and unnecessary Federal spending and put our Nation on a sustainable fiscal path.

This special message is transmitting your proposals to rescind $15.4 billion in budget authority. If enacted, these rescissions would decrease Federal outlays in the affected accounts by an estimated $3.0 billion; this would have a commensurate effect on the Federal budget deficit and the national economy, and would result in less borrowing from the Federal Treasury.

Recommendation

I join the heads of the affected departments and agencies in recommending you transmit the proposals to the Congress.

Mick Mulvaney

Director, Office of Management and Budget

PROPOSED RESCISSIONS OF BUDGET AUTHORITY

Report Pursuant to Section 1012 of Public Law 93-344

Rescission proposal no. R18-1

Agency: DEPARTMENT OF AGRICULTURE

Bureau: Animal and Plant Health Inspection Service

Account: Salaries and Expenses (012-1600/X)

Amount proposed for rescission: $148,000,000

Proposed rescission appropriations language:

Of the unobligated balances identified by the Treasury Appropriation Fund Symbol 12X1600, $148,000,000 are permanently rescinded.

Justification:

This proposal would rescind $148 million in no-year unobligated balances from prior years, of which there were $393 million available on October 1, 2017. The Animal and Plant Health Inspection Service carryover balances are from animal and plant health programs, including funds for disease outbreak response for incidents that are now resolved. These funds are in excess of amounts needed to carry out the programs in FY 2018. Enacting the rescission would have limited programmatic impact.

Rescission proposal no. R18-2

Agency: DEPARTMENT OF AGRICULTURE

Bureau: Natural Resources Conservation Service

Account: Farm Security and Rural Investment Programs (012-1004/X)

Amount proposed for rescission: $499,507,921

Proposed rescission appropriations language:

Of the unobligated balances identified by the Treasury Appropriation Fund Symbol 12X1004, the following amounts are permanently rescinded: (1) $143,854,264 of amounts made available in section 2601(a)(5) of the Agricultural Act of 2014 (Public Law 113-79); (2) $146,650,991 of amounts made available in section 2701(d) of the Food, Conservation, and Energy Act of 2008 (Public Law 110-246); (3) $33,261,788 of amounts made available in section 2701(e) of the Food, Conservation, and Energy Act of 2008 (Public Law 110-246); (4) $12,960,988 of amounts made available in section 2701(g) of the Food, Conservation, and Energy Act of 2008 (Public Law 110-246); (5) $7,447,193 of amounts made available in section 2510 of the Food, Conservation, and Energy Act of 2008 (Public Law 110-246); and (6) $155,332,698 of amounts made available from the Commodity Credit Corporation to carry out the wetlands reserve program.

Justification:

This proposal would rescind $356 million in unobligated balances of conservation programs that were not extended in the Agricultural Act of 2014, and $144 million in unobligated balances of the Environmental Quality Incentive Program (EQIP) from FY 2014 through FY 2017. There were a total of $1.5 billion in balances available in these programs on October 1, 2017. EQIP provides farmers and ranchers with financial cost-share and technical assistance to implement conservation practices on working agricultural land. These funds are from unobligated balances of expired programs or from prior years and are in excess of amounts needed to carry out the programs in FY 2018. Enacting the rescission would have limited programmatic impact.

Rescission proposal no. R18-3

Agency: DEPARTMENT OF AGRICULTURE

Bureau: Natural Resources Conservation Service

Account: Watershed and Flood Prevention Operations (012-1072/X)

Amount proposed for rescission: $157,482,457

Proposed rescission appropriations language:

Of the unobligated balances identified in the Treasury Appropriation Fund Symbol 12X1072, the following amounts are rescinded: (1) $107,482,457 of amounts made available under the “Emergency Conservation Activities” heading in title X of the Disaster Relief Appropriations Act, 2013 (Public Law 113-2) for activities under section 403 of the Agriculture Credit Act of 1978 (Emergency Watershed Protection Program; 16 U.S.C. 2203); and (2) $50,000,000 of amounts made available under the “Watershed and Flood Prevention Operations” heading in the Consolidated Appropriations Act, 2017 (Public Law 115-31).

Justification:

This proposal would rescind a total $157 million in prior year balances, of which $378 million were available on October 1, 2017.

Of these amounts, $50 million would be rescinded from the Department of Agriculture's Watershed and Flood Prevention Operations program. This program conducts surveys and investigations, engineering operations, works of improvement, and changes in use of land. These funds are in excess of amounts needed to carry out the program in FY 2018. Enacting the rescission would have a minimal impact on the program as it is fully funded through the 2018 Consolidated Appropriations Act. Enacting the rescission would have limited programmatic impact.

In addition, this proposal would rescind $107 million in unobligated balances appropriated in FY 2013 for the Emergency Watershed Protection (EWP) Program. The EWP Program is an emergency recovery program that helps local communities recover after a natural disaster. The program offers technical and financial assistance to help local communities relieve imminent threats to life and property caused by floods, fires, windstorms, and other natural disasters that impair a watershed. These funds were initially provided as part of the Federal Government's response to aid in recovery efforts following Hurricane Sandy; however, a large balance of emergency funding remains unobligated in part due to the inability of project sponsors to generate the funding necessary for their portion of the project expenses. Enacting the proposal would rescind the balance of funding provided in response to Hurricane Sandy that has yet to be obligated.

Rescission proposal no. R18-4

Agency: DEPARTMENT OF AGRICULTURE

Bureau: Rural Housing Service

Account: Rental Assistance Program (012-0137 2017/2018)

Amount proposed for rescission: $40,000,000

Proposed rescission appropriations language:

From amounts made available under this heading in the Consolidated Appropriations Act, 2017 (Public Law 115-31) that remain available until September 30, 2018, $40,000,000 are rescinded.

Justification:

This proposal would rescind $40 million in carryover balances from the rental assistance program, of which there were $40 million available on October 1, 2017. The rental assistance program provides project-based rent on behalf of low and very-low income rural residents in Department of Agriculture financed multifamily housing projects. The FY 2018 appropriations fully funded the program, and these balances are not needed to fully renew all the rental assistance contracts in FY 2018.

Rescission proposal no. R18-5

Agency: DEPARTMENT OF AGRICULTURE

Bureau: Rural Housing Service

Account: Rural Community Facilities Program Account (012-1951/X)

Amount proposed for rescission: $2,000,000

Proposed rescission appropriations language:

Of the unobligated balances available under this heading from the Consolidated Appropriations Act, 2017 (Public Law 115-31) and prior Acts, $2,000,000 are rescinded.

Justification:

This proposal would rescind $3 million in carryover balances from the community facilities program account, of which $10 million were available on October 1, 2017. The community facilities grants provide assistance to low income rural communities for essential community facilities such as police stations and medical clinics. The FY 2018 appropriations fully funded the program, and these balances are not needed to carry out the program in FY 2018.

Rescission proposal no. R18-6

Agency: DEPARTMENT OF AGRICULTURE

Bureau: Rural Business-Cooperative Service

Account: Rural Cooperative Development Grants (012-1900/X)

Amount proposed for rescission: $14,705,229

Proposed rescission appropriations language:

Of the unobligated balances available under this heading from the Consolidated Appropriations Act, 2017 (Public Law 115-31) and prior Acts, $14,705,229 are rescinded.

Justification:

This proposal would rescind $15 million in FY 2018 carryover balances from the value-added agricultural product market development grants, of which $24 million were available on October 1, 2017. The Value-Added Product Grant program provides grants to companies to market their agricultural products. These funds have been used for marketing things like chocolate-covered peanuts, which is wasteful given other Federal subsidies through the Farm Bill. Enacting the rescission would eliminate carryover funding for these unnecessary grants.

Rescission proposal no. R18-7

Agency: DEPARTMENT OF AGRICULTURE

Bureau: Rural Business-Cooperative Service

Account: Biorefinery Assistance Program Account (012-3106/X)

Amount proposed for rescission: $36,410,174

Proposed rescission appropriations language

Of the amounts made available in section 9003 of the Agricultural Act of 2014 (Public Law 113-79), $36,410,174 are rescinded.

Justification:

This proposal would rescind $36 million in unobligated balances of which $92 million were available on October 1, 2017. The Biorefinery Assistance Program, operated by the Rural Business-Cooperative Service, encourages the production of biofuels, renewable chemicals, and bioproducts. These funds are in excess of amounts needed to carry out the program in FY 2018.

Rescission proposal no. R18-8

Agency: DEPARTMENT OF AGRICULTURE

Bureau: Rural Utilities Service

Account: High Energy Cost Grants (012-2042/X)

Amount proposed for rescission: $13,275,855

Proposed rescission appropriations language:

Of the unobligated balances available under this heading from the Consolidated Appropriations Act, 2017 (Public Law 115-31) and prior Acts, $13,275,855 are rescinded.

Justification:

This proposal would rescind $13 million in carryover balances for the High Cost Energy Grants, of which $13 million were available on October 1, 2017. These grants are for communities to improve energy generation, transmission, or distribution at facilities in communities where the average residential cost for home energy exceeds 275 percent of the national average. The FY 2018 appropriations fully funded the program, and these balances are not needed to carry out the program in FY 2018.

Rescission proposal no. R18-9

Agency: DEPARTMENT OF AGRICULTURE

Bureau: Rural Utilities Service

Account: Rural Water and Waste Disposal Program Account (012-1980/X)

Amount proposed for rescission: $37,000,000

Proposed rescission appropriations language:

Of the unobligated balances available under this heading from the Consolidated Appropriations Act, 2017 (Public Law 115-31) and prior Acts, $37,000,000 are rescinded: Provided, That no amounts may be rescinded from amounts that were designated by the Congress as an emergency or disaster relief requirement pursuant to the concurrent resolution on the budget or the Balanced Budget and Emergency Deficit Control Act of 1985, as amended.

Justification:

This proposal would rescind $40 million in carryover balances from the Water and Wastewater program account, of which there were $40 million available on October 1, 2017. The Water and Wastewater program provides a grant/loan combination to low income communities of 10,000 or less for clean drinking water and wastewater facilities in rural America. The FY 2018 appropriations fully funded the program, and these balances are not needed to carry out the program in FY 2018.

Rescission proposal no. R18-10

Agency: DEPARTMENT OF AGRICULTURE

Bureau: Forest Service

Account: Land Acquisition (012-5004/X)

Amount proposed for rescission: $16,000,000

Proposed rescission appropriations language:

Of the unobligated balances available under this heading from the Consolidated Appropriations Act, 2017 (Public Law 115-31) and prior Acts that were derived from the Land and Water Conservation Fund, $16,000,000 are permanently rescinded.

Justification:

This proposal would rescind $17 million in prior year balances for the Forest Service for acquisition of additional land, of which there were $19 million available on October 1, 2017. The Forest Service Land Acquisition program funds the acquisition of lands, waters, and related interests within the National Forest System to further Agency land management objectives for landscape restoration, outdoor recreation and public access, conservation of wildlife habitat, and protection of water quality. The proposed rescission would reduce unobligated budget authority that is inconsistent with the President's policies. Enacting the rescission would eliminate land purchase projects in national forests, while projects to increase open public access for hunting, fishing, and other recreational uses would continue to be funded from the amounts available.

Rescission proposal no. R18-11

Agency: DEPARTMENT OF COMMERCE

Bureau: Economic Development Administration

Account: Economic Development Assistance Programs (013-2050/X)

Amount proposed for rescission: $30,000,000

Proposed rescission appropriations language:

Of the unobligated balances available under this heading from prior year appropriations, $30,000,000 are rescinded.

Justification:

This proposal would rescind $30 million in prior year balances of which there were nearly $44 million available on October 1, 2017. The Economic Development Administration (EDA)'s Economic Development Assistance Programs (EDAP) provide competitive economic development grants to economically distressed communities. The authorization for this program expired in 2008 and the Government Accountability Office has identified EDA programs as duplicative of several other economic development programs. Since 2015, the Congress has enacted rescissions of EDAP balances from prior year appropriations. The Consolidated Appropriations Act, 2018 (Public Law 115-141) rescinded $10 million of unobligated balances from prior year appropriations. This proposal increases that rescission by an additional $30 million, consistent with the larger rescission proposed in the FY 2018 Budget. Enacting the rescission would not impact EDA's ability to obligate funds appropriated in FY 2018, but would reduce the total funds available for award by the amount of the enacted rescission.

Rescission proposal no. R18-12

Agency: DEPARTMENT OF ENERGY

Bureau: Energy Programs

Account: Advanced Technology Vehicles Manufacturing Loan Program (089-0322/X)

Amount proposed for rescission: $4,333,499,814

Proposed rescission appropriations language:

Any unobligated balances of amounts provided by section 129 of the Consolidated Security, Disaster Assistance, and Continuing Appropriations Act, 2009 (Public Law 110-329) for the cost of direct loans as authorized by section 136(d) of the Energy Independence and Security Act of 2007 (Public Law 110-140) are rescinded.

Justification:

This proposal would rescind $4 billion in unobligated balances, of which there were $4 billion available on October 1, 2017, from amounts appropriated in FY 2009 for the cost of direct loans under the Advanced Technology Vehicles Manufacturing Loan Program. The Advanced Technology Vehicles Manufacturing Loan Program provides loans to automobile and automobile part manufacturers for the cost of re-equipping, expanding, or establishing manufacturing facilities in the United States to produce advanced technology vehicles or qualified components and for associated engineering integration costs. This proposed rescission would eliminate budget authority that is inconsistent with the President's policies. Enacting the rescission would support the elimination of the program. Since its inception in 2007 only five loans have been closed under this authority, and since 2011 no new loans have closed. The proposed rescission would have no effect on outlays.

Rescission proposal no. R18-13

Agency: DEPARTMENT OF ENERGY

Bureau: Energy Programs

Account: Title 17 Innovative Technology Loan Guarantee Program (089-0208/X)

Amount proposed for rescission: $160,682,760

Proposed rescission appropriations language:

Of the unobligated balances made available by section 1425 of the Department of Defense and Full-Year Continuing Appropriations Act, 2011 (Public Law 112-10) for the cost of loan guarantees for renewable energy or efficient end-use energy technologies under section 1703 of the Energy Policy Act of 2005 (42 U.S.C. 15513) $160,682,760 are rescinded.

Justification:

This proposal would rescind $161 million in unobligated subsidy amounts appropriated in FY 2011 for the Title 17 Innovative Technology Loan Guarantee Program, of which there were $161 million available on October 1, 2017. The Title 17 Innovative Technology Loan Guarantee Program encourages early commercial use of new or significantly improved technologies in energy projects. This proposed rescission would eliminate subsidy amounts that are inconsistent with the President's policies. Enacting the rescission would support the elimination of the program. Only three loan guarantees have been closed through this program since its inception, all related to a single project. The proposed rescission would have no effect on outlays.

Rescission proposal no. R18-14

Agency: DEPARTMENT OF ENERGY

Bureau: Energy Programs

Account: Title 17 Innovative Technology Loan Guarantee Program, Recovery (089-0209/X)

Amount proposed for rescission: $523,212,221

Proposed rescission appropriations language:

Any unobligated balances of amounts made available under this heading in the American Recovery and Reinvestment Act of 2009 (Public Law 111-5) for the cost of guaranteed loans authorized by section 1705 of the Energy Policy Act of 2005 are rescinded.

Justification:

This proposal would rescind $523 million in unobligated credit subsidy amounts appropriated in FY 2009 for the Title 17 Innovative Technology Loan Guarantee Program, of which there were $523 million available on May 1, 2018. Appropriated by the Obama stimulus package, the program encourages early commercial use of new or significantly improved technologies in energy projects. This proposed rescission would eliminate subsidy amounts that are inconsistent with the President's policies. Enacting the rescission would support the elimination of the program. The proposed rescission would have no effect on outlays.

Rescission proposal no. R18-15

Agency: DEPARTMENT OF HEALTH AND HUMAN SERVICES

Bureau: Centers for Medicare and Medicaid Services

Account: Children's Health Insurance Fund (075-0515/X)

Amount proposed for rescission: $5,149,512,000

Proposed rescission appropriations language:

Of the unobligated balances available from section 301(b)(3) of Public Law 114-10 and pursuant to section 2104(m)(2)(B)(iv) of the Social Security Act, $5,149,512,000 are rescinded.

Justification:

This proposal would rescind $5.1 billion in amounts made available by the Medicare Access and CHIP Reauthorization Act of 2015 to supplement the 2017 national allotments to States, including $3.1 billion in unobligated balances available on October 1, 2017, and $2 billion in recoveries as of May 7, 2018. The 2017 one-time appropriation was made available in addition to the annual Children's Health Insurance Program (CHIP) appropriation to reimburse states for eligible CHIP expenses. Authority to obligate these funds to States expired on September 30, 2017, and the remaining funding is no longer needed. Enacting the rescission would have no programmatic impact. The proposed rescission would have no effect on outlays.

Rescission proposal no. R18-16

Agency: DEPARTMENT OF HEALTH AND HUMAN SERVICES

Bureau: Centers for Medicare and Medicaid Services

Account: Center for Medicare and Medicaid Innovation (075-0522/X)

Amount proposed for rescission: $800,000,000

Proposed rescission appropriations language:

Of the amounts made available in section 1115A(f)(1)(B) of the Social Security Act, $800,000,000 are rescinded.

Justification:

This proposal would rescind $800 million in amounts made available under Public Law 111-148 for FYs 2011 to 2019 for the Center for Medicare and Medicaid Innovation (the Innovation Center) of which there were $3.5 billion available on October 1, 2017. The Innovation Center was created to test innovative payment and service delivery models to reduce program expenditures under Medicare, Medicaid, and CHIP while preserving or enhancing quality of care. These funds are in excess of amounts needed to carry out the Innovation Center's planned activities in FYs 2018 and 2019, and the Innovation Center will receive a new mandatory appropriation in FY 2020. Enacting the rescission would allow the Innovation Center to continue its current activity, initiate new activity, and continue to pay for its administrative costs.

Rescission proposal no. R18-17

Agency: DEPARTMENT OF HEALTH AND HUMAN SERVICES

Bureau: Centers for Medicare and Medicaid Services

Account: Child Enrollment Contingency Fund (075-5551/X)

Amount proposed for rescission: $1,865,000,000

Proposed rescission appropriations language:

Of the amounts deposited in the Child Enrollment Contingency Fund for fiscal year 2018 under section 2104(n)(2) of the Social Security Act, $1,865,000,000 are permanently rescinded.

Justification:

This proposal would rescind $1.9 billion in amounts available for the Children's Health Insurance Program Contingency Fund, of which there were $2.4 billion available as of March 23, 2018. The Contingency Fund provides payments to States that experience funding shortfalls due to higher than expected enrollment. At this time, the Centers for Medicare and Medicaid Services does not expect that any State would require a Contingency Fund payment in FY 2018; therefore, this funding is not needed. Enacting this rescission would have no programmatic impact. The proposed rescission would have no effect on outlays.

Rescission proposal no. R18-18

Agency: DEPARTMENT OF HEALTH AND HUMAN SERVICES

Bureau: Departmental Management

Account: Nonrecurring Expenses Fund (075-0125/X)

Amount proposed for rescission: $220,000,000

Proposed rescission appropriations language:

Of the unobligated balances available in the Nonrecurring Expenses Fund established in section 223 of division G of Public Law 110-161, $220,000,000 are rescinded.

Justification:

This proposal would rescind $220 million in unobligated balances made available under Public Law 110-161, of which there were $510 million available on October 1, 2017. The Nonrecurring Expenses Fund (NEF) is a no-year account that receives transfers of expired unobligated balances from discretionary accounts prior to cancellation. The NEF is used for capital acquisition, including facilities infrastructure and information technology. This proposal would rescind available unobligated balances. The Department of Health and Human Services could continue to fund high priority projects with other sources of funding.

Rescission proposal no. R18-19

Agency: DEPARTMENT OF HOUSING AND URBAN DEVELOPMENT

Bureau: Public and Indian Housing Programs

Account: Public Housing Capital Fund (086-0304 2015/2018)

Amount proposed for rescission: $1,192,287

Proposed rescission appropriations language:

Of the unobligated balances available under this heading from the Consolidated and Further Continuing Appropriations Act, 2015 (Public Law 113-235), $1,192,287 are rescinded.

Justification:

This proposal would rescind $1 million in prior year balances of which there were $2 million available on October 1, 2017. The Capital Fund largely provides formula modernization grants to public housing authorities to address the capital repair needs in about one million units of public housing, in addition to set-asides for resident self-sufficiency programs and other programmatic needs. The proposed rescission would reduce budget authority that is inconsistent with the President's policies. Enacting the rescission would reduce prior year balances available for capital repair needs, emergency repairs including safety and security measures, physical inspections, administrative and judicial receiverships, and Resident Opportunity and Self-Sufficiency (ROSS) grants. Amounts appropriated in FY 2018 for the Public Housing Capital Fund could be used for some of these activities.

Rescission proposal no. R18-20

Agency: DEPARTMENT OF HOUSING AND URBAN DEVELOPMENT

Bureau: Public and Indian Housing Programs

Account: Public Housing Capital Fund (086-0304 2016/2019)

Amount proposed for rescission: $5,243,222

Proposed rescission appropriations language:

Of the unobligated balances available under this heading from the Consolidated Appropriations Act, 2016 (Public Law 114-113), $5,243,222 are rescinded.

Justification:

This proposal would rescind $5 million in prior year balances of which there were $6 million available on October 1, 2017. The Capital Fund largely provides formula modernization grants to public housing authorities to address the capital repair needs in about one million units of public housing, in addition to set-asides for resident self-sufficiency programs and other programmatic needs. The proposed rescission would reduce budget authority that is inconsistent with the President's policies. Enacting the rescission would reduce prior year balances available for capital repair needs, emergency repairs including safety and security measures, physical inspections, administrative and judicial receiverships, and competitive Resident Opportunity and Self-Sufficiency (ROSS) and Jobs-Plus grants. Amounts appropriated in FY 2018 for the Public Housing Capital Fund could be used for some of these activities.

Rescission proposal no. R18-21

Agency: DEPARTMENT OF HOUSING AND URBAN DEVELOPMENT

Bureau: Public and Indian Housing Programs

Account: Public Housing Capital Fund (086-0304 2017/2020)

Amount proposed for rescission: $34,051,236

Proposed rescission appropriations language:

Of the unobligated balances available under this heading from the Consolidated Appropriations Act, 2017 (Public Law 115-31), $34,051,236 are rescinded.

Justification:

This proposal would rescind $34 million in prior year balances of which there were $118 million available on October 1, 2017. The Capital Fund largely provides formula modernization grants to public housing authorities to address the capital repair needs in about one million units of public housing, in addition to set-asides for resident self-sufficiency programs and other programmatic needs. The proposed rescission would reduce budget authority that is inconsistent with the President's policies. Enacting the rescission would reduce prior year balances available for capital repair needs, emergency repairs including safety and security measures, physical inspections, administrative and judicial receiverships, Resident Opportunity and Self-Sufficiency (ROSS) grants, and eliminate the FY 2017 competitive Jobs-Plus grants. Competitive grants to reduce lead-based paint hazards in public housing would continue to be funded from amounts available. Amounts appropriated in FY 2018 for the Public Housing Capital Fund could be used for some of these activities.

Rescission proposal no. R18-22

Agency: DEPARTMENT OF HOUSING AND URBAN DEVELOPMENT

Bureau: Public and Indian Housing Programs

Account: Public Housing Capital Fund (086-0304/X)

Amount proposed for rescission: $518,885

Proposed rescission appropriations language:

Of the unobligated balances available until expended under this heading, including from prior year appropriations, $518,885 are permanently rescinded.

Justification:

This proposal would rescind $1 million in prior year balances of which there were $8 million available on October 1, 2017. The Capital Fund largely provides formula modernization grants to public housing authorities to address the capital repair needs in about one million units of public housing, in addition to set-asides for resident self-sufficiency programs and other programmatic needs. The proposed rescission would reduce budget authority that is inconsistent with the President's policies. Enacting the rescission would reduce prior year balances available for capital repair needs, and technical assistance. Amounts appropriated in FY 2018 for the Public Housing Capital Fund could be used for some of these activities.

Rescission proposal no. R18-23

Agency: DEPARTMENT OF JUSTICE

Bureau: Legal Activities and U.S. Marshals

Account: Assets Forfeiture Fund (015-5042/X)

Amount proposed for rescission: $106,000,000

Proposed rescission appropriations language:

Of the unobligated balances available under this heading, including from prior year appropriations, $106,000,000 are permanently rescinded.

Justification:

This proposal would rescind $106 million in prior year balances of which there were $1.3 billion available on October 1, 2017. The Assets Forfeiture Fund receives the proceeds of forfeitures pursuant to any law enforced or administered by the Department of Justice. These resources are used to cover the costs associated with such forfeitures, including equitable sharing payments to participating State and local law enforcement, payments to victims and other innocent third party claimants, forfeiture-related investigative and litigation expenses, and asset management and disposition expenses. The funds proposed for rescission are in excess of amounts needed to carry out the program in FY 2018. Enacting the rescission would not impact program operations.

Rescission proposal no. R18-24

Agency: DEPARTMENT OF LABOR

Bureau: Employment and Training Administration

Account: Training and Employment Services (016-0174/X)

Amount proposed for rescission: $22,913,265

Proposed rescission appropriations language:

Any unobligated balances of amounts made available in section 1899K(b) of division B of the American Recovery and Reinvestment Act of 2009 (Public Law 111-5) are rescinded.

Justification:

This proposal would rescind $23 million in remaining balances for National Emergency Grants (NEGs) authorized under the American Recovery and Reinvestment Act. These NEGs were authorized to help States implement the Health Coverage Tax Credit (HCTC) for Trade Adjustment Assistance recipients, both helping States establish the systems and procedures needed to make healthcare benefits available and providing assistance and support services to eligible individuals waiting to receive payments through the HCTC. The initial HCTC authorization expired on January 1, 2014, but was reinstated in 2015. Since the HCTC program was reinstated, the Department of Labor has only distributed $1.4 million in Health NEGs. Enacting this rescission would be unlikely to have a programmatic impact since the Department does not have plans for the remaining funds. This funding is currently allocated to a child account; the proposed rescission would be executed from the parent account, which has been identified above. The proposed rescission would have no effect on outlays.

Rescission proposal no. R18-25

Agency: DEPARTMENT OF STATE

Bureau: Other

Account: Complex Crises Fund (072-1015/X)

Amount proposed for rescission: $30,000,000

Proposed rescission appropriations language:

Of the unobligated balances available under this heading from the Consolidated Appropriations Act, 2017 (Public Law 115-31) and the Consolidated Appropriations Act, 2016 (114-113), $30,000,000 are rescinded.

Justification:

This proposal would rescind $30 million in prior year balances from the Complex Crises Fund (CCF), of which $53 million were available on October 1, 2017. The CCF was designed to support rapid response programs to address emerging and unforeseen crises in order to de-escalate them. To date, the account has largely been used to support activities that are similar to longer-term development work and could be carried out within the resources and authorities of the Economic Support Fund. Since other resources and authorities are available to carry out these activities, funding in this account is unnecessary and is not a priority for the Administration. Enacting the rescission would eliminate all remaining unobligated and unplanned balances for the account.

Rescission proposal no. R18-26

Agency: INTERNATIONAL ASSISTANCE PROGRAMS

Bureau: Millennium Challenge Corporation

Account: Millennium Challenge Corporation (524-2750/X)

Amount proposed for rescission: $52,000,000

Proposed rescission appropriations language:

From amounts made available under this heading in the Consolidated Appropriations Act, 2017 (Public Law 115-31) and prior Acts, $52,000,000 are rescinded.

Justification:

This proposal would rescind $52 million in unobligated balances, of which there were at least $52 million available on October 1, 2017. The Millennium Challenge Corporation (MCC) is an independent agency with no year funds authority that provides grants to developing countries to reduce poverty through economic growth. These unobligated balances proposed for rescission are not needed to carry out the program in FY 2018. The Indonesia compact has reached the grant closeout period and funding is anticipated to be returned to MCC. In addition, funding provided for the MCC in the Consolidated Appropriations Act, 2018 was more than requested in the FY 2018 Budget. As such, enacting the rescission would have limited impact on MCC's planned programs.

Rescission proposal no. R18-27

Agency: INTERNATIONAL ASSISTANCE PROGRAMS

Bureau: Agency for International Development

Account: International Disaster Assistance (072-1035/X)

Amount proposed for rescission: $252,000,000

Proposed rescission appropriations language:

Of the unobligated balances available under this heading from the Consolidated and Further Continuing Appropriations Act, 2015 (Public Law 113-235), $252,000,000 are rescinded.

Justification:

This proposal would rescind $252 million in prior year balances of emergency funding appropriated in FY 2015 for the Ebola response, of which there were $470 million in emergency balances available for the Ebola response on October 1, 2017. The Congress provided these for countries affected by, or at risk of being affected by, the Ebola virus disease outbreak in 2015. These funds remain from the initial outbreak in 2015 and are no longer needed because the Ebola response has largely concluded. Enacting the rescission would therefore not impact the Ebola response.

Rescission proposal no. R18-28

Agency: DEPARTMENT OF TRANSPORTATION

Bureau: Federal Highway Administration

Account: Miscellaneous Appropriations (069-0538/X)

Amount proposed for rescission: $85,938,251

Proposed rescission appropriations language:

Of the unobligated balances available in the “Surface Transportation Priorities” account under Treasury Account Fund Symbol 69X0538 from the Consolidated Appropriations Act, 2010 (Public Law 111-117) or any other Act, $85,938,251 are rescinded.

Justification:

This proposal would rescind $86 million in prior year balances, of which there were $90 million available on October 1, 2017. The 2010 Consolidated Appropriations Act and prior Acts provided funding to carry out earmarked highway projects, many of which are less than $1 million, and are not regionally or nationally significant projects justifying direct appropriations. Many of these earmarks would be eligible for regular Federal Aid Highway formula funding, and if these balances are rescinded, States could direct their Federal Aid formula grant funds towards these projects, if they so choose.

Rescission proposal no. R18-29

Agency: DEPARTMENT OF TRANSPORTATION

Bureau: Federal Highway Administration

Account: Appalachian Development Highway System (069-0640/X)

Amount proposed for rescission: $45,240,246

Proposed rescission appropriations language:

Of the unobligated balances available under this heading from the Department of Transportation and Related Agencies Appropriations Act, 1998 (Public Law 105-66) or any other Act, $45,240,246 are rescinded.

Justification:

This proposal would rescind $45 million in prior year balances, of which there were $46 million available on October 1, 2017. The Appalachian Development Highway System (ADHS) program was authorized to provide grant funding for projects involving construction of, and improvements to, ADHS highway corridors. The Moving Ahead for Progress in the 21st Century Act (MAP-21, Public Law 112-141) eliminated the standalone ADHS program, as the vast majority of the system had been built out. However, States can continue to use their other Federal Aid Highway funds to support continued improvement of these corridors. The broader Federal Aid Highway eligibility, combined with the fact that the ADHS system is largely built-out, results in limited impact from rescinding these legacy balances.

Rescission proposal no. R18-30

Agency: DEPARTMENT OF TRANSPORTATION

Bureau: Federal Highway Administration

Account: Miscellaneous Highway Trust Funds (069-8058/X)

Amount proposed for rescission: $48,019,600

Proposed rescission appropriations language:

Of the unobligated balances available under the heading “Miscellaneous Highway Projects” from the Department of Transportation and Related Agencies Appropriations Act, 2001 (Public Law 106-346) or any other Act, $48,019,600 are permanently rescinded.

Justification:

This proposal would rescind $48 million in prior year balances, of which there were $53 million available on October 1, 2017. These balances are derived from the Department of Transportation and Related Agencies Appropriations Act, 2001, related to miscellaneous highway projects. Given the age of the balances, there will be little to no programmatic impact in rescinding these funds.

Rescission proposal no. R18-31

Agency: DEPARTMENT OF TRANSPORTATION

Bureau: Federal Railroad Administration

Account: Capital Assistance for High Speed Rail Corridors and Intercity Passenger Rail Service (069-0719/X)

Amount proposed for rescission: $53,404,128

Proposed rescission appropriations language:

Of the unobligated balances available under this heading from the Consolidated Appropriations Act, 2010 (Public Law 111-117) $53,404,128 are rescinded.

Justification:

This proposal would rescind $53 million in prior year balances, of which there were nearly $56 million available on October 1, 2017. The High Speed Rail program provided capital grants to States to invest and improve intercity passenger rail service, including the development of new high-speed capacity. Approximately $47 million of these funds were awarded in 2011, but not obligated, for the Chicago to Iowa City rail corridor project. The obligation of these funds is contingent upon work done to construct improvements necessary to restart passenger rail service between the two regions, which is long stalled and still in the design phase. No new funding has been provided to the High Speed Rail program since FY 2010, when these balances were appropriated. Rescinding these funds will not have a significant impact on high speed passenger rail projects.

Rescission proposal no. R18-32

Agency: DEPARTMENT OF TRANSPORTATION

Bureau: Federal Transit Administration

Account: Formula Grants (069-1129/X)

Amount proposed for rescission: $46,560,000

Proposed rescission appropriations language:

Of the unobligated balances available for Transit Formula Grants from fiscal year 2005 and prior fiscal years, $46,560,000 are permanently rescinded.

Justification:

This proposal would rescind $47 million in prior year balances, of which there were nearly $48 million available on October 1, 2017. This General Fund program provided formula grant funding to transit agencies in FY 2005 and earlier. Formula funding for transit agencies is now carried out exclusively by the Mass Transit Account of the Highway Trust Fund (HTF), and these balances are the residual balances remaining from funds provided in FY 2005 and earlier. Enacting this rescission would have a negligible impact on overall transit investments, as the Consolidated Appropriations Act, 2018, provided $9.7 billion for Transit Formula Grants within the HTF.

Rescission proposal no. R18-33

Agency: DEPARTMENT OF THE TREASURY

Bureau: Departmental Offices

Account: Treasury Forfeiture Fund (020-5697/X)

Amount proposed for rescission: $53,000,000

Proposed rescission appropriations language:

Of the unobligated balances available in the Treasury Forfeiture Fund established by the Treasury Forfeiture Fund Act of 1992 (31 U.S.C. 9705), $53,000,000 are permanently rescinded.

Justification:

This proposal would rescind $53 million in prior year balances, of which there were $669 million available on October 1, 2017. The Treasury Forfeiture Fund receives the proceeds of non-tax forfeitures made pursuant to laws enforced or administered by participating bureaus of the Departments of the Treasury and Homeland Security. These resources are used to cover the costs associated with such forfeitures, including equitable sharing payments to participating State and local law enforcement; payments to victims and other innocent third party claimants; forfeiture-related investigative and litigation expenses; and asset management and disposition expenses. The funds proposed for rescission are in excess of amounts needed to carry out the program in FY 2018. Enacting the rescission would not impact core program operations.

Rescission proposal no. R18-34

Agency: DEPARTMENT OF THE TREASURY

Bureau: Departmental Offices

Account: Community Development Financial Institution Fund Program Account (020-1881 2017/2018)

Amount proposed for rescission: $22,787,358

Proposed rescission appropriations language:

Of the unobligated balances available under this heading for the Bank Enterprise Award Program from the Consolidated Appropriations Act, 2017 (Public Law 115-31) $22,787,358 are rescinded.

Justification:

This proposal would rescind $23 million in funds appropriated in FY 2017 for the Department of the Treasury's Community Development Financial Institutions Fund (CDFI Fund) Bank Enterprise Award (BEA) Program of which $23 million were available on October 1, 2017. These funds, which have yet to be disbursed, would be used for awards to FDIC-insured depository institutions that support Community Development Financial Institutions. This proposed rescission would reduce budget authority that is inconsistent with the President's policies.

Rescission proposal no. R18-35

Agency: DEPARTMENT OF THE TREASURY

Bureau: Departmental Offices

Account: Capital Magnet Fund, Community Development Financial Institutions (020-8524/X)

Amount proposed for rescission: $151,281,335

Proposed rescission appropriations language:

From amounts made available to the Capital Magnet Fund for fiscal year 2018 pursuant to sections 1337 and 1339 of the Housing and Economic Recovery Act of 2008 (12 U.S.C. 4567 and 4569) $151,281,335 are permanently rescinded.

Justification:

This proposal would rescind $151 million in amounts made available under the Housing and Economic Recovery Act of 2008 (Public Law 110-289) for FY 2018, of which $151 million was available on May 1, 2018. The Capital Magnet Fund (CMF) is a competitive grant program that funds housing nonprofits and Community Development Financial Institutions to finance affordable housing activities, as well as related economic development activities and community service facilities. This proposed rescission of CMF balances, which were derived from assessments on Fannie Mae and Freddie Mac under permanent law, would reduce budget authority that is inconsistent with the President's policies, recognizing that State and local governments and the private sector have a greater role to play in addressing affordable housing needs. Enacting the rescission would reduce the funds available for grants under this program.

Rescission proposal no. R18-36

Agency: ENVIRONMENTAL PROTECTION AGENCY

Bureau: Environmental Protection Agency

Account: Environmental Programs and Management (068-0108 2017/2018)

Amount proposed for rescission: $10,000,000

Proposed rescission appropriations language:

Of the unobligated balances available under this heading from the Consolidated Appropriations Act, 2017 (Public Law 115-31) $10,000,000 are rescinded, including from amounts described in the first proviso.

Justification:

This proposal would rescind $10 million in prior year balances, of which there were $208 million available on October 1, 2017. This is EPA's primary account that funds salaries, travel, contracts, grants, and cooperative agreements for pollution abatement, compliance, and administrative activities of the operating programs. The funds proposed for rescission are targeted for competitive water quality research and support grants, which are duplicative with other Federal programs. Enacting the rescission would reduce funding for water quality research and support grants.

Rescission proposal no. R18-37

Agency: CORPORATION FOR NATIONAL AND COMMUNITY SERVICE

Bureau: Corporation for National and Community Service

Account: Gifts and Contributions (485-8981/X)

Amount proposed for rescission: $150,000,000

Proposed rescission appropriations language:

Of the unobligated balances available in the “National Service Trust” established in section 102 of the National and Community Service Trust Act of 1993, $150,000,000 are permanently rescinded.

Justification:

This proposal would rescind $150 million in prior year balances from the National Service Trust, of which there were $205 million available on October 1, 2017. The National Service Trust provides funds for educational awards to eligible AmeriCorps volunteers who have completed their terms of service. The available balances in the Trust are in excess of amounts needed to cover educational awards in FY 2018. This rescission would not impact the agency's operations. This rescission would have no effect on outlays.

Rescission proposal no. R18-38

Agency: RAILROAD RETIREMENT BOARD

Bureau: Railroad Retirement Board

Account: Railroad Unemployment Insurance Extended Benefits Payments (060-0117/X)

Amount proposed for rescission: $132,612,397

Proposed rescission appropriations language:

Of the amounts made available in section 9 of the Worker, Homeownership, and Business Assistance Act of 2009 (Public Law 111-92), $132,612,397 are rescinded.

Justification:

This proposal would rescind $133 million in prior year balances of which there were slightly more than $133 million available on October 1, 2017. These funds were enacted to pay extended unemployment insurance benefits to railroad workers. The program expired on December 31, 2012 and the remaining funding is no longer needed. Enacting the rescission would not have any programmatic impact on the program. The proposed rescission would have no effect on outlays.

[FR Doc. 2018-10251 Filed 5-14-18; 8:45 am]

BILLING CODE 3110-01-P